DEPARTMENT OF HOUSING AND URBAN DEVELOPMENT

[Docket No. FR-5300-C-13]

Notice of Funding Availability for Fiscal Year (FY) 2009; Self-Help Homeownership Opportunity Program (SHOP); Clarifications and Technical Corrections

AGENCY: Office of the Assistant Secretary for Community Planning and Development, HUD.

ACTION: Notice of corrections and clarifications.

SUMMARY: On July 13, 2009, HUD posted its FY2009 SHOP NOFA on the Grants.gov website. The FY2009 SHOP NOFA makes $26.5 million in assistance to national and regional nonprofit organizations and consortia which facilitate and encourage innovative homeownership opportunities for low-income individuals and families. Through this document, HUD announces that it has posted a notice that corrects and clarifies a number of provisions in the FY2009 SHOP NOFA posted on July 13, 2009. Specifically, the notice: (1) Clarifies the requirement for applicants to reduce energy costs, (2) clarifies the requirement for font size; (3) clarifies the requirement that the page limit is four pages for rating factor 2, and (4) corrects a posting error that resulted in the Tables 1 and 2 being misprinted in the posted document. The notice making these corrections is available on Grants.gov Web site http://apply07.grants.gov/apply/forms_apps_idx.html. A link to Grants.gov is also available on the HUD Web site at http://www.hud.gov/offices/adm/grants/fundsavail.cfm.

To permit applicants time to prepare applications that take into account these changes, HUD is extending the application submission deadline for the FY2009 SHOP NOFA until September 28, 2009.

FOR FURTHER INFORMATION CONTACT: For additional information concerning the Self-Help Homeownership Opportunity Program (SHOP), contact Lou Thompson, Office of Affordable Housing Programs, Office of Community Planning and Development, Department of Housing and Urban Development, 451 Seventh Street, SW., Room 7168, Washington DC 20410-7000; telephone 202-402-4594 (this is not a toll-free number). Persons with speech or hearing impairments may access this telephone number via TTY by calling the toll-free Federal Information Relay Service during working hours at 800-877-8339.

Dated: September 10, 2009.
Mercedes Márquez,
Assistant Secretary for Community Planning and Development.

[FR Doc. E9-22349 Filed 9-15-09; 8:45 am]

BILLING CODE 4210-67-P